FEDERAL ELECTION COMMISSION

[NOTICE 2024-28]

Filing Dates for the Florida Special Election in the 6th Congressional District

AGENCY: Federal Election Commission.

ACTION: Notice of filing dates for special election.

SUMMARY: Florida has scheduled special elections to fill the U.S. House of Representatives seat in the 6th Congressional District being vacated by Representative Michael Waltz.

DATES: There are two possible special elections, but only one may be necessary.

• Special Primary Election: January 28, 2025.

• Possible Special General Election: January 28, 2025. In the event that all partisan nominations are uncontested and the Special Primary Election is not necessary, the Special General Election will instead be held on January 28, 2025.

• Special General Election: April 1, 2025. However, if a Special Primary Election is not necessary, the Special General Election will be held on January 28, 2025.

ADDRESSES: 1050 First Street NE, Washington, DC 20463.

FOR FURTHER INFORMATION CONTACT: Ms. Elizabeth S. Kurland, Information Division, (202) 694-1100 or (800) 424-9530, info@fec.gov.

SUPPLEMENTARY INFORMATION:

Principal Campaign Committees

Special Primary Only

All principal campaign committees of candidates only participating in the Florida Special Primary shall file a consolidated Pre-Primary and Year-End Report on January 16, 2025. (See charts below for the closing date for the report.)

Special Primary and Special General Elections

If two elections are held, all principal campaign committees of candidates who participate in the Florida Special Primary and Special General Election shall file a consolidated Pre-Primary and Year-End Report on January 16, 2025; a Pre-General Report on March 20, 2025, and a Post-General Report on May 1, 2025. (See charts below for the closing date for each report.)

Special General Election

If only one election is held, all principal campaign committees of candidates who participate in the Florida Special General Election shall file a consolidated Pre-General and Year-End Report on January 16, 2025, and a Post-General Report on February 27, 2025. (See charts below for the closing date for each report.)

Note that these reports are in addition to the campaign committee's regular quarterly filings. (See charts below for the closing date for each report).

Unauthorized Committees (PACs and Party Committees)

Political committees not filing monthly are subject to special election reporting if they make previously undisclosed contributions or expenditures in connection with the Florida Special Primary or Special General Election by the close of books for the applicable report(s). (See charts below for the closing date for each report.)

Since disclosing financial activity from two different calendar years on one report would conflict with the calendar year aggregation requirements stated in the Commission's disclosure rules, unauthorized committees that trigger the filing of the consolidated Pre-Primary and Year-End Report (if two elections are held) or the consolidated Pre-General and Year-End Report (if one election is held) will be required to file this report on two separate forms: One form to cover 2024 activity, labeled as the Year-End Report; and the other form to cover only 2025 activity, labeled as the Pre-Primary or Pre-General Report, as applicable. Both forms must be filed by January 16, 2025.

Committees filing monthly that make contributions or expenditures in connection with the Florida Special Primary or Special General Election will continue to file according to the monthly reporting schedule.

Additional disclosure information for the Florida special elections may be found on the FEC website at https://www.fec.gov/help-candidates-and-committees/dates-and-deadlines/.

Disclosure of Lobbyist Bundling Activity

Principal campaign committees, party committees and leadership PACs that are otherwise required to file reports in connection with the special elections must simultaneously file FEC Form 3L if they receive two or more bundled contributions from lobbyists/registrants or lobbyist/registrant PACs that aggregate in excess of the lobbyist bundling threshold during the special election reporting periods. (See charts below for closing date of each period.) 11 CFR 104.22(a)(5)(v), (b), 110.17(e)(2), (f).

The lobbyist bundling disclosure threshold for calendar year 2024 is $22,700. This threshold amount may change in 2025 based upon the annual cost of living adjustment (COLA). As soon as the adjusted threshold amount is available, the Commission will publish it in the Federal Register and post it on its website. 11 CFR 104.22(g) and 110.17(e)(2).

Calendar of Reporting Dates for Florida Special Elections
Report | Close of books ¹ | Reg./Cert. & overnight mailing deadline | Filing deadline
If Two Elections Are Held, Candidate Committees Involved in Only the Special Primary (01/28/2025) Must File:
Pre-Primary & Year-End ² | 01/08/2025 | 01/13/2025 | 01/16/2025
April Quarterly | 03/31/2025 | 04/15/2025 | 04/15/2025
If Two Elections Are Held, PACs and Party Committees Not Filing Monthly Involved in Only the Special Primary (01/28/2025) Must File:
Pre-Primary & Year-End ² | 01/08/2025 | 01/13/2025 | 01/16/2025
Mid-Year | 06/30/2025 | 07/31/2025 | 07/31/2025
If Two Elections Are Held, Candidate Committees Involved in Both the Special Primary (01/28/2025) and Special General (04/01/2025) Must File:
Pre-Primary & Year-End ² | 01/08/2025 | 01/13/2025 | 01/16/2025
Pre-General | 03/12/2025 | 03/17/2025 | 03/20/2025
April Quarterly | 03/31/2025 | 04/15/2025 | 04/15/2025
Post-General | 04/21/2025 | 05/01/2025 | 05/01/2025
July Quarterly | 06/30/2025 | 07/15/2025 | 07/15/2025
If Two Elections Are Held, PACs and Party Committees Not Filing Monthly Involved in Both the Special Primary (01/28/2025) and Special General (04/01/2025) Must File:
Pre-Primary & Year-End ² | 01/08/2025 | 01/13/2025 | 01/16/2025
Pre-General | 03/12/2025 | 03/17/2025 | 03/20/2025
Post-General | 04/21/2025 | 05/01/2025 | 05/01/2025
Mid-Year | 06/30/2025 | 07/31/2025 | 07/31/2025
If Two Elections Are Held, Candidate Committees Involved in Only the Special General (04/01/2025) Must File:
Pre-General | 03/12/2025 | 03/17/2025 | 03/20/2025
April Quarterly | 03/31/2025 | 04/15/2025 | 04/15/2025
Post-General | 04/21/2025 | 05/01/2025 | 05/01/2025
July Quarterly | 06/30/2025 | 07/15/2025 | 07/15/2025
If Two Elections Are Held, PACs and Party Committees Not Filing Monthly Involved in Only the Special General (04/01/2025) Must File:
Pre-General | 03/12/2025 | 03/17/2025 | 03/20/2025
Post-General | 04/21/2025 | 05/01/2025 | 05/01/2025
Mid-Year | 06/30/2025 | 07/31/2025 | 07/31/2025
If One Election Is Held, Candidate Committees Involved in the Special General (01/28/2025) Must File:
Pre-General & Year-End ³ | 01/08/2025 | 01/13/2025 | 01/16/2025
Post-General | 02/17/2025 | 02/27/2025 | 02/27/2025
April Quarterly | 03/31/2025 | 04/15/2025 | 04/15/2025
If One Election Is Held, PACs and Party Committees Not Filing Monthly Involved in the Special General (01/28/2025) Must File:
Pre-General & Year-End ³ | 01/08/2025 | 01/13/2025 | 01/16/2025
Post-General | 02/17/2025 | 02/27/2025 | 02/27/2025
Mid-Year | 06/30/2025 | 07/31/2025 | 07/31/2025
¹ The reporting period always begins the day after the closing date of the last report filed. If the committee is new and has not previously filed a report, the first report must cover all activity that occurred before the committee registered as a political committee up through the close of books for the first report due.
² Committees should file a consolidated Pre-Primary & Year-End Report by the filing deadline of the Pre-Primary Report.
³ Committees should file a consolidated Pre-General & Year-End Report by the filing deadline of the Pre-General Report (if primary not held).

Dated: December 3, 2024.
On behalf of the Commission.
Sean J. Cooksey,
Chairman, Federal Election Commission.

[FR Doc. 2024-28771 Filed 12-6-24; 8:45 am]

BILLING CODE 6715-01-P